DEPARTMENT OF COMMERCE

National Oceanic and Atmospheric Administration

RIN 0648-XQ41

Western Pacific Fishery Management Council; Partially Closed Meeting

AGENCY: National Marine Fisheries Service (NMFS), National Oceanic and Atmospheric Administration (NOAA), Commerce.

ACTION: Notice of partially closed meeting.

SUMMARY: The Western Pacific Fishery Management Council (Council) will hold a meeting of its Sea Turtle Advisory Committee (STAC) in Honolulu, HI. A portion of the meeting will be closed to the public.

DATES: The STAC meeting will be held on Wednesday, August 5, 2009 through Thursday, August 6, 2009, from 8:30am to 5:30pm. The portion of the meeting held from 9:30am to 5:30pm on Wednesday, August 5, 2009 will be closed to the public.

ADDRESSES: The meeting will be held at the Council Office Conference Room, 1164 Bishop Street, Suite 1400, Honolulu, HI; telephone: (808)522-8220.

FOR FURTHER INFORMATION CONTACT: Kitty M. Simonds, Executive Director; telephone: (808) 522-8220.

SUPPLEMENTARY INFORMATION: The STAC will review the Council's sea turtle conservation program and other relevant activities, and produce recommendations for future program activities. The meeting will be closed to the public from 9:30am to 5:30pm on Wednesday, August 5, 2009 to discuss confidential employment and other internal administrative matters, in accordance with Section 302 (i)(3)(A)(ii) of the Magnuson-Stevens Fishery Conservation and Management Act. All other portions of this meeting will be open to the public.

Agenda

8:30 a.m. Wednesday, August 5, 2009

1. Introduction and Approval of the Agenda

2. Review of Recommendations from the 4th STAC Meeting

3. Overview of Council Projects

4.-9. STAC Discussion on Contracts and Other Internal Administrative Matters (Closed Sessions)

8:30 a.m. Thursday, August 6, 2009

10. Fishery Impacts Offset Analysis

11. Update of Sea Turtle Interactions in Hawaii-based Fisheries

12. Updates from STAC Members: Ongoing Projects and Recent Developments

13. Overview of Agency Activities

14. Top 20 Research Questions to Inform Marine Turtle Conservation

15. Funding Priorities for the next 5 years

16. Council Project Proposal Protocol

17. Recommendations from the STAC

18. Next meeting and meeting wrap-up

The order in which agenda items are addressed may change. The Committee will meet as late as necessary to complete scheduled business.

Special Accomodations

These meetings are physically accessible to people with disabilities. Requests for sign language interpretation or other auxiliary aids should be directed to Kitty M. Simonds, (808)522-8220 (voice) or (808)522-8226 (fax), at least five days prior to the meeting date.

Authority: 16 U.S.C. 1801 et seq.

Dated: July 20, 2009
Tracey L. Thompson,
Acting Director, Office of Sustainable Fisheries, National Marine Fisheries Service.

[FR Doc. E9-17511 Filed 7-22-09; 8:45 am]

BILLING CODE 3510-22-S